DEPARTMENT OF JUSTICE

[OMB Number 1121-0364]

Agency Information Collection Activities; Proposed eCollection eComments Requested; Reinstatement, With Change, of a Previously Approved Collection for Which Approval Has Expired: Annual Survey of Jails in Indian Country

AGENCY: Bureau of Justice Statistics, Department of Justice.

ACTION: 60-Day Notice.

SUMMARY: The Department of Justice (DOJ), Office of Justice Programs, Bureau of Justice Statistics (BJS), will be submitting the following information collection request to the Office of Management and Budget (OMB) for review and approval in accordance with the Paperwork Reduction Act of 1995.

DATES: Comments are encouraged and will be accepted for 60 days until April 14, 2023.

FOR FURTHER INFORMATION CONTACT: If you have comments especially on the estimated public burden or associated response time, suggestions, or need a copy of the proposed information collection instrument with instructions or additional information, please contact Todd D. Minton, (email: Todd.Minton@usdoj.gov; telephone: 202-598-7226), Bureau of Justice Statistics, 810 Seventh Street NW, Washington, DC 20531.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including using appropriate automated, electronic, mechanical, or other technological collection techniques or other forms of information technology, e.g., permitting electronic submission of responses.

Overview of This Information Collection

1. Type of Information Collection: Reinstatement, with changes, of a previously approved collection for which approval has expired.

2. Title of the Form/Collection: Annual Survey of Jails in Indian Country (SJIC).

3. Agency form number, if any, and the applicable component of the Department of Justice sponsoring the collection: The form number is CJ-5B: Annual Survey of Jails in Indian Country (SJIC). The applicable component within the Department of Justice is the Bureau of Justice Statistics (BJS), in the Office of Justice Programs. The Bureau of Justice Statistics (BJS) requests clearance to conduct the Annual Survey of Jails in Indian Country (SJIC) for a three-year period.

4. Affected public who will be asked or required to respond, as well as a brief abstract: Respondents will include approximately 80 confinement facilities, detention centers, and other correctional facilities operated by tribal authorities or the Bureau of Indian Affairs.

Abstract: BJS has conducted the SJIC since 1998 (excluding 2005 and 2006). The survey asks about the number of adults and juveniles held, sex of inmates, conviction status, seriousness of inmates' offenses, number of admissions and releases, number of inmate deaths, average daily population, peak population, capacity of facility, and jail staffing.

This collection is the only national effort devoted to describing and understanding annual changes in the tribal jail population. The collection enables BJS, tribal correctional authorities and administrators, legislators, researchers, and jail planners to track growth in the number of jails and their capacities nationally, as well as to track changes in the demographics and supervision status of the tribal jail population and the prevalence of crowding.

5. An estimate of the total number of respondents and the amount of time estimated for an average respondent to respond: BJS estimates approximately 80 Indian country correctional facilities with a respondent burden of about 105 minutes per facility to complete the web-based survey form, about 4 minutes per facility to verify facility operational status and point-of-contact, and an additional 10 minutes for data quality follow-up validation for a total burden of 119 minutes per facility.

6. An estimate of the total public burden (in hours) associated with the collection: Annual burden is about 159 hours. Total burden over three collection years is about 477 hours.

If additional information is required contact: John R. Carlson, Department Clearance Officer, United States Department of Justice, Justice Management Division, Policy and Planning Staff, Two Constitution Square, 145 N Street NE, 4W-218, Washington, DC 20530.

Dated: February 3, 2023.
John R. Carlson,
Department Clearance Officer for PRA, U.S. Department of Justice.

[FR Doc. 2023-02939 Filed 2-10-23; 8:45 am]

BILLING CODE 4410-18-P